GENERAL SERVICES ADMINISTRATION

41 CFR Part 102-117

[FMR Change 2013-02; FMR Case 2013-102-2; Docket No. 2013-0013; Sequence No. 1]

RIN 3090-AJ38

Federal Management Regulation (FMR); Shipping Household Goods

AGENCY: Office of Governmentwide Policy (OGP), U.S. General Services Administration (GSA).

ACTION: Final rule.

SUMMARY: GSA is amending the Federal Management Regulation (FMR) to update information on the commuted rate schedule and correct a Web site address. Commuted rate and actual expense are two authorized methods of transporting and paying for the movement of Household Goods (HHG), Professional Books, Paper and Equipment, and temporary storage. This final rule addresses changes only to the commuted rate method. Using the commuted rate method, the individual assumes responsibility for shipment and payment. The commuted rate schedule establishes the reimbursement rate.

DATES: Effective Date: December 12, 2013.

FOR FURTHER INFORMATION CONTACT: For clarification of content, contact Lee Gregory, Office of Governmentwide Policy, at 202-501-1533 or by email at lee.gregory@gsa.gov. Please cite FMR Case 2013-102-2. For information pertaining to status or publication schedules, contact the Regulatory Secretariat (MVCB), 1800 F Street NW., Washington, DC 20405, 202-501-4755.

SUPPLEMENTARY INFORMATION:

A. Background

A commuted rate in household goods shipping means the reimbursement rate the Federal employee receives for moving his/her own HHG or hiring his/her own mover within the Continental United States excluding Alaska and Hawaii.

The U.S. Department of Transportation's Surface Transportation Board (STB), in decision STB Ex Parte 656, effective January 1, 2008, terminated approval of all outstanding motor carrier bureau agreements under 49 U.S.C. 13703(c) and the agreements with the National Classification Committee (NCC). Therefore, effective January 1, 2008, the American Moving and Storage Association (AMSA) could no longer provide a standard tariff for HHG shipments. Until the STB ruling, executive agencies used the AMSA standard tariff for HHG shipments for commuted rate purposes. This standard tariff was used by agencies as the benchmark to help determine whether the agency should reimburse the full amount of the employee's voucher.

Agencies currently use the commuted rate based on the AMSA tariff in accordance with the regulations in the Federal Management Regulation (FMR) part 102-117, subpart G (41 CFR 102-117.220 through 102-117.245) and FTR part 302-7, subpart B (41 CFR part 302-7, subpart B). Since both the FMR and FTR address the commuted rate, GSA is concurrently publishing bulletins and amendments for the FMR and the FTR on this issue.

B. Changes to the Current FMR

This final rule amends FMR section 102-117.225 by:

1. Eliminating the reference to the AMSA; and

2. Updating the Web site address for the current GSA commuted rate schedule.

C. Executive Order 12866 and Executive Order 13563

Executive Orders (E.O.s) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action, and therefore, will not be subject to review under Section 6(b) of E.O. 12866, Regulatory Planning and Review, dated September 30, 1993. This final rule is not a major rule under 5 U.S.C. 804.

D. Regulatory Flexibility Act

These revisions are minor, and this final rule will not have a significant economic impact on a substantial number of small entities within the meaning of the Regulatory Flexibility Act, 5 U.S.C. 601, et seq. This final rule is also exempt from the Administrative Procedure Act per 5 U.S.C. 553(a)(2) because it applies to agency management or personnel.

E. Paperwork Reduction Act

The Paperwork Reduction Act does not apply because the changes to the Federal Management Regulation do not impose recordkeeping or information collection requirements, or the collection of information from offerors, contractors, or members of the public that require the approval of the Office of Management and Budget under 44 U.S.C. 3501, et seq.

F. Small Business Regulatory Enforcement Fairness Act

This final rule is also exempt from congressional review prescribed under 5 U.S.C. 801 since it relates to agency management or personnel.

List of Subjects in 41 CFR Part 102-117

Cargo, Commuted rate, Freight, Household goods, Transportation, Travel.

Dated: June 7, 2013.
Dan Tangherlini,
Acting Administrator of General Services.

For the reasons set forth in the preamble, GSA amends 41 CFR part 102-117 as set forth below:

PART 102-117—TRANSPORTATION MANAGEMENT

1. The authority citation for part 102-117 is revised to read as follows:

Authority: 31 U.S.C. 3726; 40 U.S.C. 121(c); 40 U.S.C. 501, et seq.; 46 U.S.C. 55305; 49 U.S.C. 40118.

2. Amend § 102-117.225 by—

a. Removing the last sentence in paragraph (b);

b. Revising paragraph (c); and

c. Removing paragraph (d).

The revised text reads as follows:

§ 102-117.225 What is the difference between a contract or a rate tender and a commuted rate system?

* * * * *

(c) Rate table information and the commuted rate schedule can be found at www.gsa.gov/relocationpolicy or the appropriate office designated in your agency.

[FR Doc. 2013-29212 Filed 12-11-13; 8:45 am]

BILLING CODE 6820-14-P